DEPARTMENT OF AGRICULTURE

Food Safety and Inspection Service

[Docket No. 02-026N]

FSIS Policy on Delinquent Payments for Reimbursable Overtime and Holiday Meat, Poultry, and Egg Products Inspection Services

AGENCY: Food Safety and Inspection Service, USDA.

ACTION: Notice.

SUMMARY: The Food Safety and Inspection Service (FSIS) is providing notice that it will not provide reimbursable overtime and holiday meat, poultry, and egg product inspection services to persons who have delinquent accounts. FSIS charges fees for the overtime and holiday meat, poultry, and egg product inspection services it provides to official establishments, official plants, importers, and exporters. In addition, FSIS will pursue the collection of debts owed to it for such services.

DATES: This notice is effective February 9, 2004.

FOR FURTHER INFORMATION CONTACT: For further information contact Michael B. Zimmerer, Director, Financial Management Division, Office of Management, FSIS, U.S. Department of Agriculture, 5601 Sunnyside Avenue, Mail Drop 5262 Beltsville, MD 20705, (301) 504-5885.

SUPPLEMENTARY INFORMATION:

Background

FSIS is providing notice of the actions it will take in regard to the provision of reimbursable overtime and holiday meat, poultry, and egg products inspection services to persons who are delinquent in paying for such services. The Agency is authorized to charge fees for the overtime and holiday meat, poultry, and egg product inspection services it provides by 7 U.S.C. 2219a and 21 U.S.C. 468, 695, and 1053.

FSIS regulations provide that reimbursable overtime and holiday meat, poultry, and egg products inspection services will not be performed for persons who have a delinquent account. These regulations are set forth in Title 9 of the Code of Federal Regulations (CFR) in sections 307.6(c), 381.39(c), and 590.130. The regulations provide that bills are payable upon receipt and become delinquent 30 days from the date of the bill.

As of the effective date of this notice, if payment for reimbursable overtime and holiday meat, poultry, and egg products inspection services, including payment of interest, penalty, and administrative charges, is delinquent, the Agency will take the following actions:

• FSIS will send the recipient of the service a “dunning notice.”

• FSIS will send a certified letter, along with a second dunning notice, to the recipient of the services if the requested payment in full is not received within 30 days of the initial dunning. If payment in full of the delinquent account is not received by FSIS within 14 days from the date the certified letter and second dunning notice are received, no further reimbursable overtime or holiday meat, poultry, and egg products inspection services will be provided until payment in full of the delinquent debt, including any interest, penalty, and administrative charges assessed, is received.

• If a debtor either has failed to make payment in full, of a delinquent debt or has not entered into a written repayment agreement with FSIS, the Agency will transfer the delinquent debt to the U.S. Department of Treasury for cross-servicing in accordance with the Debt Collection Improvement Act of 1996. At the discretion of the Secretary of the U.S. Department of Treasury, referral of a delinquent nontax debt may be made to (A) any executive department or agency operating a debt collection center for collection action; (B) a private collection contractor operating under a contract for servicing or collection action; or (C) the U.S. Department of Justice for litigation.

This notice applies to the provision of reimbursable overtime and holiday meat, poultry, and egg products inspection services provided pursuant to 7 U.S.C. 2219a and 21 U.S.C. 468, 695, and 1053, and regulations enacted thereunder. FSIS will continue to provide non-overtime and non-reimbursable holiday meat, poultry, and egg products inspection services under the Federal Meat Inspection Act (21 U.S.C. 601 et. seq.), the Poultry Products Inspection Act (21 U.S.C. 451 et seq., and the Egg Products Inspection Act (21 U.S.C. 1031 et seq.) to persons, regardless of whether they are delinquent in paying for the reimbursable overtime or holiday meat, poultry, or egg products inspection services provided to them.

Additional Public Notification

Public awareness of all segments of rulemaking and policy development is important. Consequently, in an effort to better ensure that minorities, women, and persons with disabilities are aware of this notice, FSIS will announce it and make copies of this Federal Register publication available through the FSIS Constituent Update. FSIS provides a weekly Constituent Update, which is communicated via Listserv, a free e-mail subscription service. In addition, the update is available on-line through the FSIS web page located at http://www.fsis.usda.gov. The update is used to provide information regarding FSIS policies, procedures, regulations, Federal Register notices, FSIS public meetings, recalls, and any other types of information that could affect or would be of interest to our constituents/stakeholders. The constituent Listserv consists of industry, trade, and farm groups, consumer interest groups, allied health professionals, scientific professionals, and other individuals that have requested to be included. Through the Listserv and web page, FSIS is able to provide information to a much broader, more diverse audience than would otherwise be possible.

For more information contact the Congressional and Public Affairs Office, at (202) 720-9113. To be added to the free e-mail subscription service (Listserv) go to the “Constituent Update” page on the FSIS Web site at http://www.fsis.usda.gov/oa/update/update.htm. Click on the “Subscribe to the Constituent Update Listserv” link, then fill out and submit the form.

Done at Washington, DC, on January 5, 2004.
Garry L. McKee,
Administrator.

[FR Doc. 04-401 Filed 1-8-04; 8:45 am]

BILLING CODE 3410-DM-P